DEPARTMENT OF AGRICULTURE

Forest Service

New Mexico Collaborative Forest Restoration Program Technical Advisory Panel

AGENCY: Forest Service, USDA.

ACTION: Notice of meeting.

SUMMARY: The New Mexico Collaborative Forest Restoration Program Technical Advisory Panel (Panel) will meet in Albuquerque, New Mexico. The Panel is established consistent with the Federal Advisory Committee Act of 1972 (5 U.S.C. App II) and the Community Forest Restoration Act (Title VI, Pub. L. 106-393). Additional information concerning the Panel can be found by visiting the Panel's Web site at: http://www.fs.usda.gov/goto/r3/cfrp.

DATES: The meeting will be held April 7-11, 2014, beginning at 10:00 a.m. on Monday, April 7, 2014 and ending at approximately 4:00 p.m. on Friday, April 11, 2014.

ADDRESSES: The meeting will be held at the Hyatt Place Albuquerque/Uptown, 6901 Arvada Avenue NE., Albuquerque, NM 87110, (505) 872-9000. Written comments should be sent to Walter Dunn, Cooperative and International Forestry, USDA Forest Service, 333 Broadway SE., Albuquerque, NM 87102. Comments may also be sent via email to wdunn@fs.fed.us, or via facsimile at (505) 842-3165.

All comments, including names and addresses, when provided, are placed in the record and are available for public inspection and copying. The public may inspect comments received at the Cooperative and International Forestry Office, USDA Forest Service, 333 Broadway SE., Albuquerque, NM 87102. Please call ahead at (505) 842-3425 to facilitate entry into the building.

FOR FURTHER INFORMATION CONTACT: Walter Dunn, Designated Federal Official, (505) 842-3425, Cooperative and International Forestry, USDA Forest Service, 333 Broadway SE., Albuquerque, NM 87102.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide recommendations to the Secretary of Agriculture on which applications submitted in response to the Collaborative Forest Restoration Program Request For Applications best meet the program objectives.

The meeting is open to the public. Panel discussion is limited to Panel members and Forest Service staff. Project proponents may respond to questions of clarification from Panel members or Forest Service staff. However, the agenda will include time for people to make oral statements of three minutes or less. Individuals wishing to make an oral statement should submit a request in writing by March 28, 2014 to be scheduled on the agenda. Anyone who would like to bring Collaborative Forest Restoration Program grant application review related matters to the attention of the Panel may file written statements with the Panel staff before or after each day of the meeting. A summary of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: February 19, 2014.
Gilbert Zepeda,
Deputy Regional Forester.

[FR Doc. 2014-04147 Filed 2-25-14; 8:45 am]

BILLING CODE 3411-15-P